SMALL BUSINESS ADMINISTRATION

National Small Business Development Center Advisory Board; Public Meeting

A Dialogue with the Small Business Development Center (SBDC) National Advisory Board will take place at the Association of SBDCs National Conference in Baltimore, Maryland on Thursday, September 8, 2005, starting at 10:30 a.m. until noon. This session will take place at the Marriott Waterfront Hotel, 700 Aliceanna Street, Board Room, Baltimore, Maryland 21202. The “Dialogue” session is an opportunity for state and regional SBDC Directors to discuss any issues (programmatic, policy, etc.) regarding the SBDC Program with the Board.

Anyone wishing to attend must contact Erika Fischer, Senior Program Analyst, U.S. Small Business Administration, Office of Small Business Development Centers, 409 3rd Street, SW., Washington, DC 20416, telephone (202) 205-7045 or fax (202) 481-0681.

Matthew K. Becker,
Committee Management Officer.

[FR Doc. 05-17172 Filed 8-29-05; 8:45 am]

BILLING CODE 8025-01-P